ENVIRONMENTAL PROTECTION AGENCY

[FRL-7781-2]

Symposium on Field Monitoring of Genetically Modified Crop Plants

AGENCY: Environmental Protection Agency.

ACTION: Notice announcing a public symposium.

SUMMARY: The U.S. Environmental Protection Agency (EPA) is announcing that the National Center for Environmental Assessment (NCEA) within the Office of Research and Development is sponsoring a three-day public symposium entitled, Symposium on Field Monitoring of Genetically Modified Crop Plants.

DATES: The symposium will be held Tuesday, August 3, 2004, through Thursday, August 5, 2004, from 8:30 a.m. to 5 p.m. each day.

ADDRESSES: The symposium will be held at the Sheraton Hotel in Crystal City, 1800 Jefferson Davis Highway, Arlington, VA 22202; telephone: 703-769-3946. A limited number of rooms will be available at the Sheraton Hotel through July 3, 2004, for the special meeting rate of $150 per night. The meeting location is within walking distance of the Crystal City Metro Stop on the Blue and Yellow Lines. TN & Associates, an EPA contractor, is organizing, convening, and conducting the symposium. To attend the symposium, please preregister by July 30, 2004, by calling Holly Stoddard (contractor) at (678) 355-5550 x0, register on line at hstoddard@tnainc.com. On site registration will be accommodated on a space available basis.

A preliminary program agenda will be available on the NCEA Web page at http://www.epa.gov/ncea. A conference report of the symposium will be made available on the NCEA Web page shortly after the meeting.

FOR FURTHER INFORMATION CONTACT: For symposium information, registration, and logistics, contact Holley Stoddard, TN & Associates, Inc.; telephone: 678-355-5550; facsimile: 678-355-5545; e-mail: hstoddard@tnainc.com.

For further information the EPA contact is Dr. Robert Frederick, telephone: 202-564-3207; e-mail: frederick.bob@epa.gov.

SUPPLEMENTARY INFORMATION: There is concern that the large scale adoption of crops with Plant Incorporated Protectants (PIPs) may have a significant environmental impact. Monitoring for resistant insects has been performed since 1991 to address the concern of developing insect resistance to specific PIPs. Other science based monitoring programs to assess possible environmental impacts of PIP crops have been limited. The National Center for Environmental Assessment (NCEA), a part of the U.S. Environmental Protection Agency's (EPA) Office of Research and Development, is sponsoring a three-day public symposium on recently published scientific research and current theory on monitoring for environmental effects from plants with incorporated protectants. The focus of the symposium will be to review the state of the science of environmental monitoring with particular focus on PIP crops, and to discuss the strengths/weaknesses of these approaches. The symposium will also address criteria for selecting ecological indicators, the use of statistical analysis for developing monitoring strategies, and the feasibility of large scale monitoring plans for PIP plants. The symposium is expected to be of interest to public interest groups, regulators, academics, and industry representatives involved in the field of genetically modified plants.

At the end of each speaker's presentation, there will be a limited period for related questions from the audience. Members of the public may attend the symposium as observers and participate in question periods. Space is limited, and registrations will be accepted on a first-come, first-served basis. The focus of the symposium is the state of the science of environmental monitoring of genetically modified plants.

Dated: June 25, 2004.
George W. Alapas,
Director, National Center for Environmental Assessment.

[FR Doc. 04-14995 Filed 6-30-04; 8:45 am]

BILLING CODE 6560-50-P